DEPARTMENT OF HOMELAND SECURITY

Coast Guard

[USCG-2004-17063]

National Offshore Safety Advisory Committee

AGENCY: Coast Guard, DHS.

ACTION: Notice of meeting.

SUMMARY: The National Offshore Safety Advisory Committee (NOSAC) will meet to discuss various issues relating to offshore safety and security. The meeting will be open to the public.

DATES: NOSAC will meet on Thursday, April 1, 2004, from 9 a.m. to 3 p.m. The meeting may close early if all business is finished. Written material and requests to make oral presentations should reach the Coast Guard on or before March 18, 2004. Requests to have a copy of your material distributed to each member of the committee should reach the Coast Guard on or before March 18, 2004.

ADDRESSES: NOSAC will meet in room 2415, of the Coast Guard Headquarters Bldg, 2100 Second Street, SW., Washington, DC. Send written material and requests to make oral presentations to Captain D.L. Scott, Commandant (G-MSO), U.S. Coast Guard Headquarters, 2100 Second Street SW., Washington, DC 20593-0001. This notice is available on the Internet at http://dms.dot.gov.

FOR FURTHER INFORMATION CONTACT: Captain D. L. Scott, Executive Director of NOSAC, or Mr. Jim Magill, Assistant to the Executive Director, telephone 202-267-1082, fax 202-267-4570.

SUPPLEMENTARY INFORMATION: Notice of the meeting is given under the Federal Advisory Committee Act, 5 U.S.C. App. 2.

Agenda of Meeting

The agenda includes the following items:

(1) Report on issues concerning the International Maritime Organization and the International Organization for Standardization.

(2) Report by the Coast Guard and the National Offshore Safety Advisory Committee (NOSAC) security subcommittee chairman on implementation of maritime and offshore security rules.

(3) Report from the Offshore Marine Service Association (OMSA) on development of operations procedure/training for liftboat operators.

(4) Presentation by Minerals Management Service (MMS) on protection of OCS attending vessel crews from exposure to H2S gas.

(5) Status report on Coast Guard/Minerals Management Service Inspection of Fixed Facilities.

(6) Revision of 33 CFR chapter I, subchapter N, Outer Continental Shelf activities.

(7) 33 CFR chapter I, subchapter NN, Temporary Final Rule on Deepwater Ports, and status of license submissions for LNG deepwater ports.

Procedural

The meeting is open to the public. Please note that the meeting may close early if all business is finished. At the Chair's discretion, members of the public may make oral presentations during the meeting. If you would like to make an oral presentation at the meeting, please notify the Executive Director no later than March 18, 2004. Written material for distribution at the meeting should reach the Coast Guard no later than March 18, 2004. If you would like a copy of your material distributed to each member of the committee in advance of the meeting, please submit 25 copies to the Executive Director no later than March 18, 2004.

Information on Services for Individuals With Disabilities

For information on facilities or services for individuals with disabilities or to request special assistance at the meeting, contact the Executive Director as soon as possible.

Dated: February 9, 2004.
Howard L. Hime,
Acting Director of Standards, Marine Safety, Security and Environmental Protection.

[FR Doc. 04-3270 Filed 2-12-04; 8:45 am]

BILLING CODE 4910-15-P